DEPARTMENT OF THE INTERIOR

Fish and Wildlife Service

50 CFR Part 17

RIN 1018-AF86

Endangered and Threatened Wildlife and Plants; Reopening of Comment Period on Proposed Endangered Status for Ambrosia Pumila (San Diego Ambrosia)

AGENCY: Fish and Wildlife Service, Interior.

ACTION: Proposed rule; notice of reopening of comment period.

SUMMARY: We, the Fish and Wildlife Service (Service), pursuant to the Endangered Species Act of 1973, as amended (Act), reopen the comment period on the proposal to list Ambrosia pumila (San Diego ambrosia) as an endangered species. The comment period is reopened in response to a request from the public for additional time to obtain biological information regarding the plant and formulate comments on the proposed rule. In addition, reopening of the comment period will allow further opportunity for all interested parties to submit comments on the proposal, which is available (see ADDRESSES section). We are seeking comments or suggestions from the public, other concerned governmental agencies, the scientific community, industry, or any other interested parties concerning the proposed rule. Comments already submitted on the proposed rule need not be resubmitted as they will be fully considered in the final determination.

DATES: The reopened comment period closes May 30, 2000.

ADDRESSES: Comments and materials concerning this proposed rule should be sent to the Field Supervisor, U.S. Fish and Wildlife Service, Carlsbad Fish and Wildlife Office, 2730 Loker Avenue West, Carlsbad, California, 92008. Comments and materials received will be available for public inspection, by appointment, during normal business hours at the above address.

FOR FURTHER INFORMATION CONTACT: Gary Wallace, Carlsbad Fish and Wildlife Office (see ADDRESSES section) at (760) 431-9440.

SUPPLEMENTARY INFORMATION:

Background

On December 29, 1999, the Service published a rule proposing endangered status for Ambrosia pumila (San Diego ambrosia) in the Federal Register (64 FR 72993). The original comment period closed on February 28, 2000. The comment period now closes on May 30, 2000. Written comments should be submitted to the Service (see ADDRESSES section).

Ambrosia pumila is a herbaceous perennial plant with underground rhizome-like roots. This wind pollinated species is restricted to San Diego and western Riverside counties and from Colonet to Lake Chapala, in Baja California, Mexico. The species is currently known from 13 extant native occurrences in the U.S. Ambrosia pumila is threatened by the following; destruction, fragmentation, and degradation of habitat by recreational and commercial development; highway construction and maintenance; construction and maintenance activities associated with utility easements; competition from non-native plants; trampling by horses and humans; off-road vehicle (ORV) use; and inadequate regulatory mechanisms. Comments from the public regarding the accuracy of this proposed rule are sought, especially regarding:

(1) Biological, commercial trade, or other relevant data concerning any threat (or lack thereof) to this species;

(2) The location and condition of any additional occurrences of this species and the reasons why any habitat should or should not be determined to be critical habitat pursuant to section 4 of the Act;

(3) Aditional information concerning the range, distribution, and population size of this species;

(4) Current or planned activities in the subject area and their possible impacts on Ambrosia pumila or its habitat;

Author

The primary author of this notice is Gary D. Wallace, Ph.D. (see ADDRESSES section).

Authority

The authority for this action is the Endangered Species Act of 1973 (16 U.S.C. 1531 et seq.).

Dated: March 22, 2000.
Elizabeth H. Stevens,
Acting Manager, California/Nevada Operations Office.

[FR Doc. 00-7800 Filed 3-29-00; 8:45 am]

BILLING CODE 4310-55-P